GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to 0MB M-07-16. This notice is a compilation of updated Privacy Act system of record notices.

DATES: Effective July 2, 2008.

FOR FURTHER INFORMATION CONTACT: Call or e-mail the GSA Privacy Act Officer: telephone 202-208-1317; e-mail qsa.privacyact@gsa.gov.

ADDRESSES: GSA Privacy Act Officer (CIB), General Services Administration, 1800 F Street, NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also includes the new requirement from 0MB Memorandum M-07-16 regarding a new routine use that allows agencies to disclose information in connection with a response and remedial efforts in the event of a data breach.

Dated: May 21, 2008.
Cheryl M. Paige,
Director, Office of Information Management.

GSA/PPFM-8

SYSTEM NAME:

Comprehensive Human Resources Integrated System (CHRIS).

SYSTEM LOCATION:

The record system is an Oracle web-based application used by GSA Services and Staff Offices, Presidential Boards and Commissions, and small agencies serviced by GSA, at the addresses below:

• GSA Central Office, 1800 F Street, NW., Washington, DC 20405.

• National Capital Region, 7th & D Streets, SW., Washington, DC 20407.

• New England Region, 10 Causeway Street, Boston, MA 02222.

• Northeast and Caribbean Region, 26 Federal Plaza, New York, NY 10278.

• Mid-Atlantic Region, 20 N. Eighth Street, Philadelphia, PA 19107.

• Southeast Sunbelt Region, 77 Forsyth Street, Atlanta, GA 30303.

• Great Lakes Region, 230 South Dearborn Street, Chicago, IL 60604.

• The Heartland Region, 1500 East Bannister Road, Kansas City, MO 64131.

• Greater Southwest Region, 819 Taylor Street, Fort Worth, TX 76102.

• Rocky Mountain Region, 1 Denver Federal Center, Denver, CO 80225.

• Pacific Rim Region, 450 Golden Gate Avenue, San Francisco, CA 95102.

• NARA, 9700 Page Blvd, St. Louis, MO.

• NARA, 8601 Adelphi Road, College Park, MD 20740-6001.

• OPM, 1900 E Street NW., Washington, DC 20415.

• OPM, 1137 Branchton Road, Boyers, PA 16020.

• RRB, 844 N. Rush, Chicago, IL 60611.

• NCUA, 1775 Duke Street, Alexandria, VA 22314.

• Export-Import Bank of the U.S., Washington, DC 20571.

• USIP, 1200 17th Street, NW., 2nd floor, Washington, DC 20036.

CATEGORIES OF INDIVIDUALS COVERED BY THE SYSTEM:

Current and former employees of the General Services Administration, Presidential Boards and Commissions, and small agencies serviced by GSA, including persons in intern, youth employment, and work-study programs.

CATEGORIES OF RECORDS IN THE SYSTEM:

The system contains personnel and training records. The records include information collected by operating officials and personnel officials administering programs for or about employees. The system has data needed to update the Central Personnel Data File (CPDF), the Enterprise Human Resources Integration (EHRI), and the Electronic Official Personnel Folder (eOPF) at the Office of Personnel Management (OPM), as well as process and document personnel actions. It may include, but is not limited to, the data maintained in each employee's Official Personnel Folder, including:

a. Employee's name, Social Security Number, date of birth, gender, work schedule, type of appointment, education, veteran's preference, military service, and race or national origin.

b. Employee's service computation date for leave, date probationary period began, and date of performance rating.

c. Pay data such as pay plan, occupational series, grade, step, salary, and organizational location.

d. Performance rating and types and amounts of awards.

e. Position description number, special employment program, and target occupational series and grade.

f. Training records that show what classes employees have taken.

AUTHORITY FOR MAINTENANCE OF THE SYSTEM:

5 U.S.C., pt. III, is the authority for maintaining personnel information. Authorities for recording Social Security Numbers are E.O. 9397, 26 CFR 31.601 1(b)2, and 26 CFR 31.6109-1.

PURPOSE:

To maintain a computer based information system supporting the day-to-day operating needs of human resource operations and management. The system is designed to meet information and statistical needs of all types of Government organizations and provides a number of outputs.

For the Office of the Chief Human Capital Officer, the system tracks, produces and stores personnel actions, and supplies HR data used to generate reports (organizational rosters, retention registers, retirement calculations, Federal civilian employment, length-of-service lists, award lists, etc.). It also provides reports for monitoring personnel actions to determine the impact of GSA policies and practices on minorities, women, and disabled persons, analyzing their status in the work force; and for establishing affirmative action goals and timetables. The system also provides management data for administrative and staff offices.

ROUTINE USES OF THE SYSTEM RECORDS, INCLUDING CATEGORIES OF USERS AND THEIR PURPOSE FOR USING THE SYSTEM:

The information in the system is used by GSA employees and designated client agency representatives in the performance of their official duties as authorized by law and regulation and for the following routine uses:

a. To disclose information to the Office of Personnel Management (OPM) for the Central Personnel Data File (CPDF) and the Enterprise Human Resources Integration (EHRI).

b. GSA uses Business Objects and the Personnel Information Database (PID) to disclose information to sources outside GSA, including other agencies and persons; for employees seeking employment elsewhere; and for documenting adverse actions, conducting counseling sessions, and preparing biographical sketches on employees for release to other agencies and persons.

c. To disclose information in the personnel file to GSA's Office of the Chief Human Capital Officer.

d. To disclose information to agency staff and administrative offices who may restructure the data for management purposes.

e. In any legal proceeding, where pertinent, to which GSA is a party before a court or administrative body.

f. To authorized officials engaged in investigating or settling a grievance, complaint, or appeal filed by an individual who is the subject of the record.

g. To a Federal agency in connection with the hiring or retention of an employee; the issuance of a security clearance; the reporting of an investigation; the letting of a contract; or the issuance of a grant, license, or other benefit to the extent that the information is relevant and necessary to a decision.

h. To the Office of Personnel Management (OPM), the Office of Management and Budget (OMB), or the Government Accountability Office (GAO) when the information is required for program evaluation purposes.

i. To a Member of Congress or staff on behalf of and at the request of the individual who is the subject of the record.

j. To an expert, consultant, or contractor of GSA in the performance of a Federal duty to which the information is relevant.

k. To the National Archives and Records Administration (NARA) for records management purposes.

l. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING RECORDS IN THE SYSTEM:

STORAGE:

Computer records are stored on a secure server and accessed over the web using encryption software. Paper records, when created, are kept in file folders and cabinets in secure rooms.

RETRIEVABILITY:

Records are retrieved by name, Social Security Number, or Applicant or Employee ID.

SAFEGUARDS:

Computer records are protected by a password system. Paper output is stored in locked metal containers or in secured rooms when not in use. Information is released to authorized officials based on their need to know.

RETENTION AND DISPOSAL:

Records are disposed of by shredding or burning as scheduled in the handbook, GSA Records Maintenance and Disposition System (OAD P 1820.2).

SYSTEM MANAGER AND ADDRESS:

CHRIS Program Manager (CID), Office of the Chief Information Officer, Office of the Chief Human Capital Officer, General Services Administration, 1800 F Street, NW., Washington, DC 20405.

NOTIFICATION PROCEDURE:

Address inquiries to: Director of Human Resources Services (CP), Office of the Chief People Officer, General Services Administration, 1800 F Street, NW., Washington, DC 20405; or, for regional personnel records, to the regional Human Resources Officer at the addresses listed above under System Location.

RECORD ACCESS PROCEDURES:

Requests from individuals for access to their records should be addressed to the system manager.

CONTESTING RECORD PROCEDURES:

Rules for contesting the content of a record and appealing a decision are contained in 41 CFR 105-64.

RECORD SOURCE CATEGORIES:

The sources for the system information are the individuals themselves, other employees, supervisors, management officials, officials of other agencies, and record systems GSA/HRO-37, OPM/GOVT-1, and EEOC/GOVT-1.

[FR Doc. E8-11822 Filed 5-30-08; 8:45 am]

BILLING CODE 6820-34-M